DEPARTMENT OF LABOR

Employment and Training Administration

[TA-W-51,415]

Washington Group IDC, Manassas, VA; Notice of Revised Determination on Reconsideration

On June 9, 2003, the Department issued an Affirmative Determination Regarding Application on Reconsideration applicable to workers and former workers of the subject firm. The notice will soon be published in the Federal Register.

The Department initially denied TAA to workers of Washington Group IDC, Manassas, Virginia, because the workers did not produce an article within the meaning of section 222(c)(3) of the Trade Act of 1974.

On reconsideration, the Department conducted an on-site analysis of the functions performed by Washington Group IDC, Manassas, Virginia employees at Micron Technology, Manassas, Virginia. The workers of Micron Technology, Manassas, Virginia (TA-W-51,231) were certified eligible to apply for Trade Adjustment Assistance (TAA) on May 7, 2003.

The on-site investigation revealed that Washington Group IDC workers performed a variety of functions at Micron Technology, Inc. Manassas, Virginia. The review revealed that in addition to facilities management services, a meaningful portion of their work relates to the production of the products (wafers) manufactured at Micron Technology. The workers are not separately identifiable by specific function.

The investigation further revealed that employment and production at the subject facility declined during the relevant period.

Conclusion

After careful review of the additional facts obtained on reconsideration, I conclude that increased imports of articles like or directly competitive with wafers, contributed importantly to the declines in sales or production and to the total or partial separation of workers of Washington Group IDC, Manassas, Virginia working at Micron Technology, Manassas, Virginia. In accordance with the provisions of the Act, I make the following certification:

All workers of Washington Group IDC, Manassas, Virginia working at Micron Technology, Manassas, Virginia who became totally or partially separated from employment on or after March 27, 2002 are eligible to apply for adjustment assistance under Section 223 of the Trade Act of 1974.

Signed in Washington, DC, this 17th day of June 2003.
Elliott S. Kushner,
Certifying Officer, Division of Trade Adjustment Assistance.

[FR Doc. 03-17449 Filed 7-9-03; 8:45 am]

BILLING CODE 4510-30-P